DEPARTMENT OF ENERGY

Federal Energy Regulatory Commission

[Project Nos. 12658-001]

E.ON U.S. Hydro 1 LLC; Notice of Withdrawal of Application for Original Major License

July 31, 2007.

On July 11, 2007, E.ON U.S. Hydro 1 LLC filed a notice of withdrawal of its October 10, 2006 application for an original major license for its proposed Meldahl Hydroelectric Project. No one filed a motion in opposition to the withdrawal, and the Commission took no action to disallow it. Accordingly, pursuant to Rule 216 of the Commission's Rules of Practice and Procedure, 18 CFR 385.216 (2006), the withdrawal of the pleading became effective fifteen days after it was filed.

Kimberly D. Bose,
Secretary.

[FR Doc. E7-15282 Filed 8-6-07; 8:45 am]

BILLING CODE 6717-01-P